DEPARTMENT OF THE TREASURY

Submission for OMB Review; Comment Request

May 16, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Dates: Written comments should be received on or before June 30, 2006 to be assured of consideration.

Internal Revenue Service (IRS)

OMB Number: 1545-0233.

Type of Review: Extension.

Title: Application for Automatic Extension of Time to File Corporation Income Tax Return.

Form: IRS 7004.

Description: Form 7004 is used by corporations and certain non-profit institutions to request an automatic 6-month extension of time to file their income tax returns. The information is needed by IRS to determine whether Form 704 was timely filed so as not to impose a late filing penalty in error and also to insure that the proper amount of tax was computed and deposited.

Respondents: Business or other for-profit; Not-for-profit institution.

Estimated Total Burden Hours: 18,508,162 hours.

OMB Number: 1545-0865.

Type of Review: Extension.

Title: Application for Registration of a Tax Shelter.

Form: Form 8264.

Description: Organizers of certain tax shelters are required to register them with the IRS using Form 8264. Other persons may have to register the tax shelter if the organizer doesn't. We use the information to give the tax shelter a registration number. Sellers of interests in the tax shelter furnish the number to investors who report the number on their tax returns.

Respondents: Individuals or households; Business or other for-profit.

Estimated Total Burden Hours: 14,382 hours.

OMB Number: 1545-1800.

Type of Review: Extension.

Title: Reportable Transaction Disclosure Statement.

Form: Form 8886.

Description: Regulation section 1.6011-4 requires certain taxpayers to disclose reportable transactions in which they directly or indirectly participated.

Respondents: Individuals or household; Business or other for-profit.

Estimated Total Burden Hours: 6,180 hours.

OMB Number: 1545-1099.

Type of Review: Extension.

Title: Information Return for Real Estate Mortgage Investment Conduits (REMICs) and Issuers of Collateralized Debt Obligations.

Form: Form 8811.

Description: Form 8811 is used to collect the name, address, and phone number of a representative of a REMIC who can provide brokers with the correct income amounts that the broker's clients must report on their income tax returns. The form allows the IRS to provide the REMIC industry the information necessary to issue correct information returns to investors.

Respondents: Business or other for-profit.

Estimated Total Burden Hours: 4,380 hours.

OMB Number: 1545-1251.

Type of Review: Extension.

Title: PS-5-91 (Final) Limitations of Percentage Depletion in the Case of Oil and Gas Wells.

Description: Section 1.613A-3(e)(6)(i) of the regulations requires each partner to separately keep records of the partner's share of the adjusted basis of partnership oil and gas property.

Respondents: Business or other for-profit.

Estimated Total Burden Hours: 49,950 hours.

OMB Number: 1545-1997.

Type of Review: Extension.

Title: Relief from Certain Low-Income Housing Requirements Due to Hurricane Rita.

Form: Notice 2006-11.

Description: The Internal Revenue Service is suspending certain income limitations requirements under section 42 of the Internal Revenue Code for certain low-income housing credit properties as a result of the devastation caused by Hurricane Rita. This relief is being granted pursuant to the Service's authority under section 42(n) and section 1.42-13 of the Income tax Regulations.

Respondents: Individuals or households; Business or other for-profit; State, Local or Tribal Government.

Estimated Total Burden Hours: 1,250 hours.

Clearance Officer: Glenn P. Kirkland, Internal Revenue Service, Room 6516, 1111 Constitution Avenue, NW., Washington, DC 20224. (202) 622-3428.

OMB Reviewer: Alexander T. Hunt, Office of Management and Budget, Room 10235, New Executive Office Building, Washington, DC 20503. (202) 395-7316.

Robert Dahl,
Treasury PRA Clearance Officer.

[FR Doc. E6-8361 Filed 5-30-06; 8:45 am]

BILLING CODE 4830-01-P